DEPARTMENT OF THE INTERIOR

National Park Service

Notice of Intent to Repatriate Cultural Items in the Possession of the Robert S. Peabody Museum of Archaeology, Phillips Academy, Andover, MA.

AGENCY: National Park Service, Interior.

ACTION: Notice.

Notice is hereby given in accordance with the Native American Graves Protection and Repatriation Act (NAGPRA), 43 CFR 10.10 (a)(3), of the intent to repatriate cultural items in the possession of the Robert S. Peabody Museum of Archaeology, Phillips Academy, Andover, MA, that meet the definition of “sacred objects” under Section 2 of the Act.

This notice is published as part of the National Park Service’s administrative responsibilities under NAGPRA, 43 CFR 10.2 (c). The determinations within this notice are the sole responsibility of the museum, institution, or Federal agency that has control of these cultural items. The National Park Service is not responsible for the determinations within this notice.

Between 1915 and 1929, these cultural items were recovered from several locations at Pecos Pueblo, NM, during excavations conducted by the Phillips Academy under the direction of Alfred Vincent Kidder. The 63 objects are 16 pipes, fragments of 3 ceramic vessels, 4 effigies, 25 whole and fragmented shell beads, 1 shell pendant, 8 bird bone flutes, 3 fragments of quartz, 2 fragments of mica, and 1 fragment of turquoise.

Based on the ceramic types recovered from this site, Pecos Pueblo was occupied between A.D. 1300 and 1700. Historic records document occupation at the site until 1838 when the last inhabitants left the pueblo and went to the Pueblo of Jemez. In 1936, an Act of Congress recognized the Pueblo of Jemez as a “consolidation” and “merger” of the Pueblo of Pecos and the Pueblo of Jemez; this act further recognizes that all property, rights, titles, interests, and claims of both pueblos were consolidated under the Pueblo of Jemez.

In consultation with members of the Eagle Watcher’s Society, as well as other traditional religious leaders of the Pueblo of Jemez, it has been determined by officials of the Robert S. Peabody Museum of Archaeology that these objects are integral to present-day religious practice at the Pueblo.

Based on the above-mentioned information, officials of the Robert S. Peabody Museum of Archaeology have determined that, pursuant to 43 CFR 10.2 (d)(3), these cultural items are specific ceremonial objects needed by traditional Native American religious leaders for the practice of traditional Native American religions by their present-day adherents. Officials of the Robert S. Peabody Museum of Archaeology also have determined that, pursuant to 43 CFR 10.2 (e), there is a relationship of shared group identity that can be reasonably traced between these sacred objects and the Pueblo of Jemez, New Mexico.

This notice has been sent to officials of the Pueblo of Jemez, New Mexico. Representatives of any other Indian tribe that believes itself to be culturally affiliated with these sacred objects should contact Malinda Blustain, Interim Director, Robert S. Peabody Museum, Phillips Academy, Andover, MA, telephone (978) 749-4496 before June 24, 2002. Repatriation of these sacred objects to the Pueblo of Jemez, New Mexico, may begin after that date if no additional claimants come forward.

Dated: April 16, 2002.
Robert Stearns,
Manager, National NAGPRA Program.

[FR Doc. 02-13162 Filed 5-23-02; 8:45 am]

BILLING CODE 4310-70-S